DEPARTMENT OF HEALTH AND HUMAN SERVICES

[Document Identifier OS-0990-New]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: Evaluation of the Consumer Education Campaign “Make the Call—Don't Miss a Beat” for the Office on Women's Health (OWH), U.S. Department of Health and Human Services (HHS) (New)—OMB No. 0990-NEW.

Abstract: The “Make the Call. Don't Miss a Beat” campaign is a national Public Service Announcement (PSA) campaign that aims to educate, engage and empower women and their families to learn the seven most common symptoms of a heart attack and to call 911 as soon as those symptoms arise. The campaign launched in February, 2011 and includes TV, radio, print and social media PSA. This study will collect information on awareness of the Make the Call—Don't Miss a Beat campaign, knowledge about heart disease, risk status, and likelihood of calling 911 as the first response to the symptoms of a heart attack. Information will also be collected on demographic variables including age, sex, race, education, income, primary language, and marital status. Information will be collected through the use of a probability sample, Random Digit Dial telephone survey. The respondent base will be surveyed only once, as this is a single-wave survey. The sampling plan is to include a minimum of 1200 women from the United States general population, with at least 600 of these women 50 years or older.

Estimated Annualized Burden Table
Form | Type of respondent | Number of respondents | Number of responses per respondent | Average burden hours per response | Total burden hours
Screener | General Population, Adult Women, 25+ | 4300 | 1 | 5/60 | 358
Main instrument | General Population, Adult Women, 25+ | 1200 | 1 | 15/60 | 300
Total |  |  |  |  | 658

Keith A. Tucker,
Office of the Secretary, Paperwork Reduction Act Reports Clearance Officer.

[FR Doc. 2011-31201 Filed 12-5-11; 8:45 am]

BILLING CODE 4150-33-P